DEPARTMENT OF DEFENSE

Defense Acquisition Regulations System

[DFARS Case 2012-D055]

Detection and Avoidance of Counterfeit Electronic Parts

AGENCY: Defense Acquisition Regulations System, Department of Defense (DoD).

ACTION: Notice of meeting.

SUMMARY: DoD is hosting a public meeting to obtain the views of experts and interested parties in Government and the private sector regarding the electronic parts detection and avoidance coverage proposed to be included in the Defense Federal Acquisition Regulation Supplement.

DATES: June 28, 2013, from 9:00 a.m. to 12:30 p.m., EDT.

ADDRESSES: The public meeting will be held at General Services Administration (GSA), Central Office Auditorium, 1800 F Street NW., Washington, DC, 20405. The GSA auditorium is located on the main floor of the building.

FOR FURTHER INFORMATION CONTACT: Ms. Meredith Murphy, DPAP/DARS, at 571-372-6098. Please cite DFARS Case 2012-D055 Public Meeting.

SUPPLEMENTARY INFORMATION: DoD is interested in opening a dialogue with experts and interested parties in Government and the private sector about the requirements for detection and avoidance of counterfeit electronic parts in DoD contracts. A proposed rule was published in the Federal Register at 78 FR 28780 on May 16, 2013. The public comment period closes on July 15, 2013.

The DFARS proposed rule is a partial implementation of the requirements at section 818, entitled “Detection and Avoidance of Counterfeit Electronic Parts,” of the National Defense Authorization Act for Fiscal Year 2012 (Pub. L. 112-81).

The DFARS case would apply only to contractors subject to the Cost Accounting Standards. It addresses the responsibility of DoD contractors for detecting and avoiding the use or inclusion of counterfeit electronic parts or suspect counterfeit electronic parts in items delivered to the Department. In lieu of requiring contractors to establish an entirely new and separate system for avoiding the purchase, and detecting the receipt, of counterfeit or suspect counterfeit parts, DoD plans to use contractors' existing purchasing systems and quality assurance systems.

In addition, the DFARS case proposes to implement section 833, entitled “Contractor Responsibilities in Regulations Relating to Detection and Avoidance of Counterfeit Electronic Parts,” of the National Defense Authorization Act for Fiscal Year 2013 (Pub. L. 112-239). This provision of law makes the costs associated with counterfeit or suspect counterfeit parts unallowable except in certain limited circumstances.

Individuals wishing to attend the public meeting should register by June 20, 2013, to ensure adequate room accommodations and to facilitate entry to the GSA building. Interested parties may register at this Web site, http://www.acq.osd.mil/dpap/dars/counterfeit_electronic_parts.html, by providing the following information:

• (1) Company or organization name;

• (2) Names and email addresses of persons planning to attend;

• Identify if desiring to make a presentation; limit to a 10-minute presentation per company or organization.

• Last four digits of the social security number for anyone who is not a Federal Government employee with a Government badge, in order to create an attendee list for secure entry to the GSA building.

Attendees are encouraged to arrive at least 30 minutes early to accommodate security procedures.

If you wish to make a presentation, please submit an electronic copy of your presentation to dfars@osd.mil no later than June 24, 2013. When submitting presentations, provide presenter's name, organization affiliation, telephone number, and email address on the cover page. Please submit presentations only and cite DFARS Case 2012-D055 Public Meeting in all correspondence related to the public meeting. There will be no transcription at the meeting. The submitted presentations will be the only record of the public meeting.

Special accommodations: The public meeting is physically accessible to people with disabilities. Requests for reasonable accommodations, sign language interpretation or other auxiliary aids should be directed to Meredith Murphy at 571-372-6098, at least 10 working days prior to the meeting date.

The TTY number for further information is: 1-800-877-8339. When the operator answers the call, let them know the agency is the Department of Defense; the point of contact is Meredith Murphy at 571-372-6098.

Kortnee Stewart,
Editor, Defense Acquisition Regulations System.

[FR Doc. 2013-13960 Filed 6-11-13; 8:45 am]

BILLING CODE 5001-06-P